FEDERAL COMMUNICATIONS COMMISSION

47 CFR Part 2

[ET Docket No. 23-107, DA 23-241; FR ID 133828]

Table of Frequency Allocations and Radio Regulations; Correction

AGENCY: Federal Communications Commission.

ACTION: Final rule; correction.

SUMMARY: On June 7, 2023, the Federal Communications Commission's Office of Engineering and Technology issued a final rule making non-substantive editorial revisions to conform certain of the Commission's rules to the formatting requirements of the Code of Federal Regulations. This document corrects two typographical errors in the rule.

DATES: Effective July 7, 2023.

FOR FURTHER INFORMATION CONTACT: Patrick Forster, Office of Engineering and Technology, at (202) 418-7061, Patrick.Forster@fcc.gov.

SUPPLEMENTARY INFORMATION: In FR Doc. No. 2023-11972, appearing on page 37318 in the Federal Register of Wednesday, June 7, 2023, the following corrections are made:

§ 2.106 [Corrected]

1. On page 37352, in the second column, § 2.106(b)(511)(i) is corrected by removing “se” and adding “Use” in its place.

2. On page 37375, in table 18 to § 2.106(c)(346), the last entry is corrected to read as follows:

§ 2.106 Table of Frequency Allocations.

* * * * *

(c) * * *

(346) * * *

Table 18 to Paragraph (c)(346)
Facility | Coordinates
* * * * * * *
Guam Tracking Stations, Andersen AFB, and Naval CTS, Guam | 13°36′54″ N | 144°51′18″ E

* * * * *

Ronald T. Repasi,
Chief, Office of Engineering and Technology.

[FR Doc. 2023-13406 Filed 6-22-23; 8:45 am]

BILLING CODE 6712-01-P